DEPARTMENT OF HEALTH AND HUMAN SERVICES

Centers for Medicare and Medicaid Services

[CMS-29/30, CMS-317, CMS-319, CMS-2746, and CMS-R-293]

Agency Information Collection Activities: Submission for OMB Review; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection.

Title of Information Collection: Request for Certification as Rural Health Clinic and Rural Health Clinic Survey Report Form and Supporting Regulations in 42 CFR 491.1-491.11.

Form No.: CMS-0029/0030 (OMB# 0938-0074).

Use: The Form CMS-29 is utilized as an application to be completed by suppliers of RHC services requesting participation in the Medicare/Medicaid programs. This form initiates the process of obtaining a decision as to whether the conditions for certification are met as a supplier of RHC services. It also promotes data reduction or introduction to and retrieval from the Online Survey and Certification and Reporting System (OSCAR) by the CMS Regional Offices (RO). The Form CMS-30 is an instrument used by the State survey agency to record data collected in order to determine RHC compliance with individual conditions of participation and to report it to the Federal government. The form is primarily a coding worksheet designed to facilitate data reduction (keypunching) and retrieval into OSCAR at the CMS ROs. The form includes basic information on compliance (i.e., met, not met and explanatory statements) and does not require any descriptive information regarding the survey activity itself.

Frequency: Annually.

Affected Public: State, Local, or Tribal Government.

Number of Respondents: 661.

Total Annual Responses: 661; Total Annual Hours: 1,157.

2. Type of Information Collection Request: Extension of a currently approved collection.

Title of Information Collection: State Medicaid Eligibility Quality Control (MEQC) Sampling Plan and Supporting Regulations in 42 CFR 431.800-431.865.

Form No.: CMS-317 (OMB# 0938-0146).

Use: The State MEQC sampling plan is necessary for CMS to monitor the States' operation of the MEQC system for States performing the traditional sampling process. The sampling plan includes all data involved in the States' sample selection process—population sizes and sample frame lists, sample sizes, sample selection procedures, and claim collection procedures.

Frequency: Semi-annually.

Affected Public: State, Local, or Tribal Government.

Number of Respondents: 55.

Total Annual Responses: 110.

Total Annual Hours: 2,640.

3. Type of Information Collection Request: Extension of a currently approved collection;

Title of Information Collection: State Medicaid Eligibility Quality Control (MEQC) Sample Section Lists and Supporting Regulations in 42 CFR 431.800—431.865.

Form No.: CMS-0319 (OMB# 0938-0147).

Use: The sample selection lists contain identifying information on Medicaid beneficiaries and is the basis for the cases that States review to determine the accuracy of the Medicaid eligibility determinations. The Regional Office uses this list to monitor State review activity.

Frequency: Monthly.

Affected Public: State, Local or Tribal Government.

Number of Respondents: 55.

Total Annual Responses: 660.

Total Annual Hours: 5,280.

4. Type of Information Collection Request: Extension of a currently approved collection.

Title of Information Collection: End Stage Renal Disease Death Notification 42 CFR 405.2133.

Form No.: CMS-2746 (OMB# 0938-0448).

Use: This form is completed by all Medicare approved ESRD facilities upon the death of an ESRD patient. The form's primary purpose is to collect fact and cause of death. Reports of deaths are used to show cause of death and demographic characteristics of these patients.

Frequency: On occasion.

Affected Public: Business or other for-profit, Not-for-profit institutions, Federal Government.

Number of Respondents: 4,000.

Total Annual Responses: 56,258.

Total Annual Hours: 9,564.

5. Type of Information Collection Request: Extension of a currently approved collection.

Title of Information Collection: Medicare Telephone Customer Satisfaction Survey.

Form No.: CMS-R-293 (OMB# 0938-0780).

Use: In response to the National Partnership for Reinventing Government and Government Performances and Results Act (GPRA), CMS is implementing a number of initiatives to measure and then improve the customer service that is provided by Medicare Call Centers, that service over 21 million calls annually.

Frequency: On occasion, simi-annually, other (single 800# survey).

Affected Public: Individuals or Households; Number of Respondents: 50,000.

Total Annual Responses: 50,000.

Total Annual Hours: 3,500.

To obtain copies of the supporting statement and any related forms for the proposed paperwork collections referenced above, access CMS Web site address at http://cms.hhs.gov/regulations/pra/default.asp, or e-mail your request, including your address, phone number, OMB number, and CMS document identifier, to Paperwork@hcfa.gov, or call the Reports Clearance Office on (410) 786-1326. Written comments and recommendations for the proposed information collections must be mailed within 30 days of this notice directly to the OMB desk officer: OMB Human Resources and Housing Branch, Attention: Brenda Aguilar, New Executive Office Building, Room 10235, Washington, DC 20503.

Dated: October 31, 2002.
John P. Burke, III,
Paperwork Reduction Act Team Leader, CMS Reports Clearance Officer, Office of Strategic Operations and Regulatory Affairs, Division of Regulations Development and Issuances.

[FR Doc. 02-28423 Filed 11-7-02; 8:45 am]

BILLING CODE 4120-03-P